DEPARTMENT OF COMMERCE

International Trade Administration

[A-351-857]

Raw Honey From Brazil: Preliminary Results and Partial Rescission of Antidumping Duty Administrative Review; 2021-2023

AGENCY: Enforcement and Compliance, International Trade Administration, Department of Commerce.

SUMMARY: The U.S. Department of Commerce (Commerce) preliminarily finds that raw honey from Brazil was sold in the United States at below normal value (NV) during the period of review (POR) November 23, 2021, through May 31, 2023. We are also rescinding the review with respect to certain companies that had no entries of the subject merchandise during the POR. We invite interested parties to comment on these preliminary results.

DATES: Applicable July 5, 2024.

FOR FURTHER INFORMATION CONTACT: Rachel Jennings, AD/CVD Operations, Office V, Enforcement and Compliance, International Trade Administration, U.S. Department of Commerce, 1401 Constitution Avenue NW, Washington, DC 20230; telephone: (202)-482-1110.

SUPPLEMENTARY INFORMATION:

Background

On August 3, 2023, Commerce initiated an administrative review of the antidumping duty order on raw honey from Brazil, in accordance with section 751(a) of the Tariff Act of 1930, as amended (the Act).¹ This review covers 23 companies.² On August 29, 2023, Commerce selected Apis Nativa Agroindustrial Exportadora Ltda. (Apis Nativa) and Melbras Importadora E Exportadora Agroindustrial Ltda. (Melbras) for individual examination as mandatory respondents.³

¹ See Initiation of Antidumping and Countervailing Duty Administrative Reviews, 88 FR 51271 (August 3, 2023) (Initiation Notice); see also Raw Honey from Argentina, Brazil, India, and the Socialist Republic of Vietnam: Antidumping Duty Orders, 87 FR 35501 (June 10, 2022) (Order).

² See Initiation Notice.

³ See Memorandum, “Respondent Selection,” dated August 29, 2023.

On February 14, 2024, Commerce extended the time limit for completing the preliminary results of this review until June 28, 2024.⁴ For details regarding the events that occurred subsequent to the initiation of the review, see the Preliminary Decision Memorandum.⁵

⁴ See Memorandum, “Extension of Deadline for Preliminary Results of Antidumping Duty Administrative Review,” dated February 14, 2024.

⁵ See Memorandum, “Decision Memorandum for the Preliminary Results of the Antidumping Duty Administrative Review of Raw Honey from Brazil and Partial Rescission of Administrative Review; 2021-2023,” dated concurrently with, and hereby adopted by, this notice (Preliminary Decision Memorandum).

Scope of the Order

The product covered by the scope of this Order is raw honey from Brazil. A complete description of the scope of the Order is contained in the Preliminary Decision Memorandum.⁶

⁶ Id. at “Scope of the Order.”

Rescission of Administrative Review, in Part

Pursuant to 19 CFR 351.213(d)(3), when there are no reviewable entries of subject merchandise during the POR subject to the antidumping duty order for which liquidation is suspended, Commerce may rescind an administrative review, in whole or only with respect to a particular exporter or producer.⁷

⁷ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

At the end of the administrative review, any suspended entries are liquidated at the assessment rate computed for the review period.⁸ Therefore, for an administrative review to be conducted, there must be a reviewable, suspended entry to be liquidated at the newly calculated assessment rate. On May 20, 2024, Commerce notified all interested parties of its intent to rescind this review with respect to certain companies because those companies had no reviewable, suspended entries of subject merchandise and invited parties to comment.⁹ We received no comments on our intent to rescind the review with respect to these companies. Accordingly, pursuant to 19 CFR 351.213(d)(3) and (d)(4), we are rescinding this administrative review with respect to the five companies listed in Appendix III to this notice that had no reviewable, suspended entries of subject merchandise during the POR.¹⁰

⁸ See 19 CFR 351.212(b)(1).

⁹ See Memorandum, “Notice of Intent to Rescind Review, In Part,” released on May 20, 2024.

¹⁰ See Memorandum, “CBP Data Release,” dated August 14, 2023, at Attachment.

Methodology

Commerce is conducting this review in accordance with section 751(a) of the Act. We calculated export price and constructed export price in accordance with sections 772(a) and 772(b) of the Act, respectively. For a full description of the methodology underlying these preliminary results, see the Preliminary Decision Memorandum. See Appendix I for a complete list of topics discussed in the Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

In this review, we have preliminarily calculated weighted-average dumping margins of zero percent and 2.31 percent for Apis Nativa and Melbras, respectively. Therefore, in accordance with section 735(c)(5)(A) of the Act, we are preliminarily applying Melbras' weighted-average dumping margin of 2.31 percent to the non-examined companies, because this is the only rate that is not zero, de minimis, or based entirely on facts available.

Preliminary Results of the Review

We preliminarily determine that the following estimated weighted-average dumping margins exist during the period November 23, 2021, through May 31, 2023:

¹¹ See Appendix II for a list of these companies.

Exporter/producer | Weighted- average dumping margin (percent)
Apis Nativa Agroindustrial Exportadora Ltda | 0.00
Melbras Importadora E Exportadora Agroindustrial Ltda | 2.31
Non-Examined Companies ¹¹ | 2.31

Disclosure and Public Comment

Commerce intends to disclose the calculations performed in connection with these preliminary results to interested parties within five days after the date of publication of this notice, or, if there is no public announcement, within five days of the date of publication of this notice in accordance with 19 CFR 351.224(b).¹²

¹² See 19 CFR 351.224(b).

Pursuant to 19 CFR 351.309(c), interested parties may submit case briefs no later than 30 days after the date of publication of this notice. Rebuttal briefs, limited to issues raised in the case briefs, may be filed not later than five days after the date for filing case briefs.¹³ Interested parties who submit case briefs or rebuttal briefs in this proceeding must submit: (1) a table of contents listing each issue; and (2) a table of authorities.¹⁴ As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁵ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁶

¹³ See 19 CFR 351.309(d); see also Administrative Protective Order, Service, and Other Procedures in Antidumping and Countervailing Duty Proceedings, 88 FR 67069, 67077 (September 29, 2023) (APO and Service Procedures).

¹⁴ See 19 351.309(c)(2) and (d)(2).

¹⁵ We use the term “issue” here to describe an argument that Commerce would normally address in a comment of the Issues and Decision Memorandum.

¹⁶ See APO and Service Procedures.

Interested parties who wish to request a hearing must do so within 30 days of publication of these preliminary results by submitting a written request to the Assistant Secretary, filed electronically via ACCESS.¹⁷ Requests should contain the party's name, address, and telephone number, the number of participants, whether any participant is a foreign national, and a list of the issues to be discussed. Issues raised in the hearing will be limited to those raised in the respective case and rebuttal briefs.¹⁸ If a request for a hearing is made, Commerce intends to hold the hearing at a time and date to be determined. Parties should confirm the date and time of the hearing two days before the scheduled date. Parties are reminded that all briefs and hearing requests must be filed electronically using ACCESS and received successfully in their entirety by 5:00 p.m. Eastern Time on the due date.

¹⁷ See 19 CFR 351.310(c).

¹⁸ See 19 CFR 351.310.

Assessment Rates

The final results of this review shall be the basis for the assessment of antidumping duties on entries of merchandise covered by this review and for future deposits of estimated duties, where applicable.¹⁹

¹⁹ See section 751(a)(2)(C) of the Act.

Upon completion of the final results of this administrative review, Commerce shall determine, and U.S. Customs and Border Protection (CBP) shall assess, antidumping duties on all appropriate entries covered by this review. If a respondent's weighted-average dumping margin is not zero or de minimis (i.e., less than 0.5 percent) in the final results of this review, we will calculate importer-specific assessment rates based on the ratio of the total amount of dumping calculated for the importer's examined sales to the total entered value of those same sales in accordance with 19 CFR 351.212(b)(1). We intend to instruct CBP to assess antidumping duties on all appropriate entries covered by this review. Where an importer-specific assessment rate is zero or de minimis in the final results of this review, we intend to instruct CBP to liquidate the appropriate entries without regard to antidumping duties in accordance with 19 CFR 351.106(c)(2).

For the companies in Appendix III, we will instruct CBP to assess antidumping duties on any suspended entries that entered under their CBP case numbers (i.e., at that exporter's rate) at a rate equal to the cash deposit of estimated antidumping duties required at the time of entry, or withdrawal from warehouse, for consumption, during the POR.

In accordance with Commerce's “automatic assessment” practice, for entries of subject merchandise during the POR produced Apis Nativa or Melbras for which these companies did not know that the merchandise was destined for the United States, we will instruct CBP to liquidate those entries at the all-others rate established in the original less-than-fair-value (LTFV) investigation (i.e., 7.89 percent),²⁰ if there is no rate for the intermediate company(ies) involved in the transaction.²¹ For the companies which were not selected for individual review, we will assign an assessment rate based on the review-specific average rate, calculated as noted in the “Preliminary Results of Review” section above.

²⁰ See Order, 87 FR at 35503.

²¹ For a full description of this practice, see Antidumping and Countervailing Duty Proceedings: Assessment of Antidumping Duties, 68 FR 23954 (May 6, 2003).

Commerce intends to issue assessment instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed in the final results of this review will be equal to the weighted-average dumping margin established in the final results of this administrative review except if the rate is less than 0.50 percent and, therefore, de minimis within the meaning of 19 CFR 351.106(c)(1), in which case the cash deposit rate will be zero; (2) for merchandise exported by producers or exporters not covered in this review but covered in a prior segment of the proceeding, the cash deposit rate will continue to be the company-specific rate published for the most recently-completed segment of this proceeding in which they were reviewed; (3) if the exporter is not a firm covered in this review, or the original LTFV investigation, but the producer is, then the cash deposit rate will be the rate established for the most recently-completed segment of this proceeding for the producer of the merchandise; and (4) the cash deposit rate for all other producers or exporters will continue to be 7.89 percent, the all-others rate established in the LTFV investigation as adjusted for the export-subsidy rate in the companion countervailing duty investigation.²² The cash deposit requirements, when imposed, shall remain in effect until further notice.

²² See Order, 85 FR at 19926.

Final Results of Review

Unless extended, Commerce intends to issue the final results of this administrative review, including the results of its analysis of the issues raised in any written briefs, not later than 120 days after the date of publication of this notice, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing these results in accordance with sections 751(a)(1) and 777(i)(1) of the Act and 19 CFR 351.221(b)(4).

Dated: June 28, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Partial Rescission of Administrative Review

V. Discussion of the Methodology

VI. Currency Conversion

VII. Recommendation

Appendix II

List of Companies Not Individually Examined

1. Apidouro Comercial Exportadora E Importadora Ltda.

2. Apiários Adams Agroindustrial Comercial Exportadora Ltda.

3. Breyer & Cia. Ltda.

4. Cooperativa Mista Dos Apicultores D

5. Flora Nectar

6. Lambertucci

7. Minamel

8. Nectar Floral

9. S & A Honey Ltda.

10. Apiário Diamante Comercial Exportadora Ltda/Apiário Diamante Produção e Comercial de Mel Ltda (Supermel)

11. Central de Cooperativas Apícolas do Semiárido Brasileiro—CASA APIS ²³

²³ We also initiated this review on “Central De Cooperativas Apicolas Do (CASA APIS),” which we are preliminarily considering to be the same company. See Initiation Notice.

12. Floranectar Ind. Comp. Imp. E Exp. De Mel

13. Minamel Agroindústria Ltda.

14. Annamell Imp. E Exp. De Produtos Apicoloas Ltda.

15. Conexão Agro Ltda ME

16. Wenzel's Apicultura Comercio Industria Importacao E Exportacao Ltda.²⁴

²⁴ We also initiated this review on “Wenzel's Apicultura,” which we are preliminarily considering to be the same company. See Initiation Notice.

Appendix III

Companies Rescinded from Administrative Review

1. Carnauba Do Brasil Ltda.

2. Novomel

3. Safe Logistics

4. Samel Honey

5. STM Trading

[FR Doc. 2024-14712 Filed 7-3-24; 8:45 am]

BILLING CODE 3510-DS-P